DEPARTMENT OF JUSTICE

Antitrust Division

Notice Pursuant to the National Cooperative Research and Production Act of 1993—Southwest Research Institute (“SWRI”): Clean Diesel III

Correction

In Notice Document 01-7769 appearing on pages 17204-17205 in the issue of Thursday, March 29, 2001, in the third column, heading of Notice, fifth line, “Clear Diesel” should read “Clean Diesel”.

Constance K. Robinson,
Director of Operations, Antitrust Division.

[FR Doc. 02-16921 Filed 7-5-02; 8:45 am]

BILLING CODE 4410-11-M